DEPARTMENT OF AGRICULTURE

Grain Inspection, Packers and Stockyards Administration

[99-05-s]

Designation for the Kansas (KS), Minot (ND), and Tri-State (OH) Areas

AGENCY: Grain Inspection, Packers and Stockyards Administration (GIPSA).

ACTION: Notice.

SUMMARY: GIPSA announces designation of the following organizations to provide official services under the United States Grain Standards Act, as amended (Act): Kansas Grain Inspection Service, Inc. (Kansas); Minot Grain Inspection, Inc. (Minot); and Tri-State Grain Inspection Service, Inc. (Tri-State).

EFFECTIVE DATES: September 1, 2000, for Kansas; and October 1, 2000, for Minot and Tri-State.

ADDRESSES: USDA, GIPSA, Janet M. Hart, Chief, Review Branch, Compliance Division, STOP 3604, Room 1647-S, 1400 Independence Avenue, S.W., Washington, DC 20250-3604.

FOR FURTHER INFORMATION CONTACT: Janet M. Hart at 202-720-8525.

SUPPLEMENTARY INFORMATION: This action has been reviewed and determined not to be a rule or regulation as defined in Executive Order 12866 and Departmental Regulation 1512-1; therefore, the Executive Order and Departmental Regulation do not apply to this action.

In the December 1, 1999, Federal Register (64 FR 67246), GIPSA asked persons interested in providing official services in the geographic areas assigned to Kansas, Minot, and Tri-State to submit an application for designation. Applications were due by December 30, 1999. Kansas, Minot, and Tri-State, the only applicants, each applied for designation to provide official services in the entire area currently assigned to them. Since these they were the only applicants, GIPSA did not ask for comments on the applicants.

GIPSA evaluated all available information regarding the designation criteria in section 7(f)(l)(A) of the Act and, according to section 7(f)(1)(B), determined that Kansas, Minot, and Tri-State are able to provide official services in the geographic areas, specified in the December 1, 1999, Federal Register, for which they applied. Interested persons may obtain official services by calling the telephone numbers listed below.

Official agency | Designation term | Telephone
Kansas | 09/01/2000-06/30/2003 | 785-233-7063
Minot | 10/01/2000-06/30/2003 | 701-838-1734
Tri-State | 10/01/2000-06/30/2003 | 513-251-6571

Authority: Pub. L. 94-582, 90 Stat. 2867, as amended (7 U.S.C. 71 et seq.).

Dated: June 14, 2000.
Neil E. Porter,
Director, Compliance Division.

[FR Doc. 00-16541 Filed 6-30-00; 8:45 am]

BILLING CODE 3410-EN-P